DEPARTMENT OF ENERGY

Federal Energy Regulatory Commission

Combined Notice of Filings

Take notice that the Commission has received the following Natural Gas Pipeline Rate and Refund Report filings:

Filings Instituting Proceedings

Docket Numbers: CP16-24-000.

Applicants: DTE Gas Company.

Description: Abbreviated Application of DTE Gas Company for Issuance of Limited Certificate to Lease Pipeline Capacity to NEXUS Gas Transmission, LLC for use to transport Natural Gas in Interstate Commerce.

Filed Date: 11/24/15.

Accession Number: 20151124-5261.

Comments Due: 5 p.m. ET 12/8/15.

Docket Numbers: PR16-4-000.

Applicants: American Midstream Onshore Pipelines, LLC.

Description: Tariff filing per 284.123(e)/.224: Cancelation of Tariff to be effective 11/25/2015; Filing Type: 800.

Filed Date: 11/24/15.

Accession Number: 20151124-5125.

Comments/Protests Due: 5 p.m. ET 12/15/15.

Docket Numbers: RP11-1591-000.

Applicants: Golden Pass Pipeline LLC.

Description: Report Filing: 2015 Annual Report of Penalty Revenue and Cost of Golden Pass Pipeline LLC.

Filed Date: 11/30/15.

Accession Number: 20151130-5162.

Comments Due: 5 p.m. ET 12/14/15.

Docket Numbers: RP16-229-000.

Applicants: El Paso Natural Gas Company, L.L.C.

Description: § 4(d) Rate Filing: Annual Fuel Filing effective 1/1/16 to be effective 1/1/2016.

Filed Date: 11/24/15.

Accession Number: 20151124-5119.

Comments Due: 5 p.m. ET 12/7/15.

Docket Numbers: RP16-230-000.

Applicants: Colorado Interstate Gas Company, L.L.C.

Description: § 4(d) Rate Filing: FL&U to be effective 1/1/16 to be effective 1/1/2016.

Filed Date: 11/24/15.

Accession Number: 20151124-5135.

Comments Due: 5 p.m. ET 12/7/15.

Docket Numbers: RP16-231-000.

Applicants: Cheyenne Plains Gas Pipeline Company, L.

Description: § 4(d) Rate Filing: Out of Time Fuel Filing to be effective 1/1/2016.

Filed Date: 11/24/15.

Accession Number: 20151124-5164.

Comments Due: 5 p.m. ET 12/7/15.

Docket Numbers: RP16-232-000.

Applicants: Algonquin Gas Transmission, LLC.

Description: § 4(d) Rate Filing: Negotiated Rate Filing—BBPC 790861 eff 12-1-2015 to be effective 12/1/2015.

Filed Date: 11/24/15.

Accession Number: 20151124-5169

Comments Due: 5 p.m. ET 12/7/15.

Docket Numbers: RP16-233-000.

Applicants: SG Resources Mississippi, L.L.C.

Description: § 4(d) Rate Filing: SG Resources Mississippi, L.L.C.—Modifications to FERC Gas Tariff to be effective 12/31/2015.

Filed Date: 11/24/15.

Accession Number: 20151124-5174.

Comments Due: 5 p.m. ET 12/7/15.

Docket Numbers: RP16-234-000.

Applicants: El Paso Natural Gas Company, L.L.C.

Description: § 4(d) Rate Filing: Non-Conforming Agreements Filing (NMG) to be effective 1/1/2016.

Filed Date: 11/25/15.

Accession Number: 20151125-5031.

Comments Due: 5 p.m. ET 12/7/15.

Docket Numbers: RP16-235-000.

Applicants: Gas Transmission Northwest LLC.

Description: § 4(d) Rate Filing: Leap Year Rates to be effective 1/1/2016.

Filed Date: 11/25/15.

Accession Number: 20151125-5089.

Comments Due: 5 p.m. ET 12/7/15.

Docket Numbers: RP16-236-000.

Applicants: Young Gas Storage Company, Ltd.

Description: § 4(d) Rate Filing: Annual Fuel Reimbursement Percentage Update Filing effective 1/1/16 to be effective 1/1/2016.

Filed Date: 11/25/15.

Accession Number: 20151125-5170.

Comments Due: 5 p.m. ET 12/7/15.

Docket Numbers: RP16-237-000.

Applicants: El Paso Natural Gas Company, L.L.C.

Description: § 4(d) Rate Filing: Article 11.2(a) Inflation Adjustment Filing effective January 1, 2016 to be effective 1/1/2016.

Filed Date: 11/25/15.

Accession Number: 20151125-5188.

Comments Due: 5 p.m. ET 12/7/15.

Docket Numbers: RP16-238-000.

Applicants: Transcontinental Gas Pipe Line Company.

Description: § 4(d) Rate Filing: Negotiated Rates—Cherokee AGL—Replacement Shippers—Dec 2015 to be effective 12/1/2015.

Filed Date: 11/25/15.

Accession Number: 20151125-5282.

Comments Due: 5 p.m. ET 12/7/15.

Docket Numbers: RP16-239-000.

Applicants: Questar Pipeline Company.

Description: § 4(d) Rate Filing: Annual FGRP Report for 2016 of Questar Pipeline Company to be effective 1/1/2016.

Filed Date: 11/25/15.

Accession Number: 20151125-5293

Comments Due: 5 p.m. ET 12/7/15.

Docket Numbers: RP16-240-000.

Applicants: Alliance Pipeline L.P.

Description: § 4(d) Rate Filing: Negotiated Rate Filing NSO (1) to be effective 12/1/2015.

Filed Date: 11/30/15.

Accession Number: 20151130-5000.

Comments Due: 5 p.m. ET 12/14/15.

Docket Numbers: RP16-241-000.

Applicants: Columbia Gulf Transmission, LLC.

Description: § 4(d) Rate Filing: Increase/Decrease of Transportation Demand to be effective 1/1/2016.

Filed Date: 11/30/15.

Accession Number: 20151130-5050.

Comments Due: 5 p.m. ET 12/14/15.

Docket Numbers: RP16-242-000.

Applicants: Columbia Gas Transmission, LLC.

Description: § 4(d) Rate Filing: Increase/Decrease of Transportation Demand to be effective 1/1/2016.

Filed Date: 11/30/15.

Accession Number: 20151130-5053.

Comments Due: 5 p.m. ET 12/14/15.

Docket Numbers: RP16-243-000.

Applicants: TC Offshore LLC.

Description: Compliance filing Compliance to CP15-519-000. Abandon X-64 Agreement to be effective 1/1/2016.

Filed Date: 11/30/15.

Accession Number: 20151130-5060.

Comments Due: 5 p.m. ET 12/14/15.

Docket Numbers: RP16-244-000.

Applicants: Transcontinental Gas Pipe Line Company.

Description: § 4(d) Rate Filing: S-2 Tracker Filing Effective 12-01-2015 to be effective 12/1/2015.

Filed Date: 11/30/15.

Accession Number: 20151130-5096.

Comments Due: 5 p.m. ET 12/14/15.

Docket Numbers: RP16-245-000.

Applicants: Viking Gas Transmission Company.

Description: § 4(d) Rate Filing: Revision to Exhibit A of FT-A Form of Service Agreement to be effective 1/4/2016.

Filed Date: 11/30/15.

Accession Number: 20151130-5126.

Comments Due: 5 p.m. ET 12/14/15.

Docket Numbers: RP16-246-000.

Applicants: KPC Pipeline, LLC.

Description: Request for Waiver of Tariff Provision Requiring the Filing of an Annual Interruptible Transportation Revenue Crediting Report of KPC Pipeline, LLC.

Filed Date: 11/30/15.

Accession Number: 20151130-5142.

Comments Due: 5 p.m. ET 12/14/15.

Docket Numbers: RP16-247-000.

Applicants: Texas Eastern Transmission, LP.

Description: § 4(d) Rate Filing: Negotiated Rate—eff 12-1-2015 Chevron TEAM2014 Releases to Sequent Energy Mgmt to be effective 12/1/2015.

Filed Date: 11/30/15.

Accession Number: 20151130-5170.

Comments Due: 5 p.m. ET 12/14/15.

Docket Numbers: RP16-248-000.

Applicants: Texas Eastern Transmission, LP.

Description: § 4(d) Rate Filing: Negotiated Rate—Con Ed Release eff 12-1-2015 to be effective 12/1/2015.

Filed Date: 11/30/15.

Accession Number: 20151130-5191.

Comments Due: 5 p.m. ET 12/14/15.

Docket Numbers: RP16-249-000.

Applicants: Algonquin Gas Transmission, LLC.

Description: § 4(d) Rate Filing: Negotiated Rate—Keyspan Ramapo Release eff 12-1-2015 to be effective 12/1/2015.

Filed Date: 11/30/15.

Accession Number: 20151130-5193.

Comments Due: 5 p.m. ET 12/14/15.

Docket Numbers: RP16-250-000.

Applicants: Algonquin Gas Transmission, LLC

Description: § 4(d) Rate Filing: Negotiated Rates—Con Ed Ramapo Releases eff 12-1-2015 to be effective 12/1/2015.

Filed Date: 11/30/15.

Accession Number: 20151130-5196.

Comments Due: 5 p.m. ET 12/14/15.

Docket Numbers: RP16-251-000.

Applicants: Texas Eastern Transmission, LP.

Description: § 4(d) Rate Filing: Non-conforming and Negotiated Rate—Total 911252 to be effective 12/1/2015.

Filed Date: 11/30/15.

Accession Number: 20151130-5197.

Comments Due: 5 p.m. ET 12/14/15.

Docket Numbers: RP16-252-000.

Applicants: Questar Pipeline Company.

Description: § 4(d) Rate Filing: Non-Conforming TSAs Version 7.0.0, remove expired Contract No. 2419 to be effective 12/1/2015.

Filed Date: 11/30/15.

Accession Number: 20151130-5278.

Comments Due: 5 p.m. ET 12/14/15.

Docket Numbers: RP16-253-000.

Applicants: Alliance Pipeline L.P.

Description: § 4(d) Rate Filing: Hess Contract Amendment to be effective 12/1/2015.

Filed Date: 11/30/15.

Accession Number: 20151130-5277.

Comments Due: 5 p.m. ET 12/14/15.

Docket Numbers: RP16-254-000.

Applicants: Alliance Pipeline L.P.

Description: § 4(d) Rate Filing: Negotiated Rate Filing NSO(1) Revised to be effective 12/1/2015.

Filed Date: 11/30/15.

Accession Number: 20151130-5275.

Comments Due: 5 p.m. ET 12/14/15.

Docket Numbers: RP16-255-000.

Applicants: Algonquin Gas Transmission, LLC.

Description: § 4(d) Rate Filing: Negotiated Rates for 12-1-2015 Ramapo Releases to be effective 12/1/2015.

Filed Date: 11/30/15.

Accession Number: 20151130-5274.

Comments Due: 5 p.m. ET 12/14/15.

Docket Numbers: RP16-256-000.

Applicants: Columbia Gas Transmission, LLC.

Description: § 4(d) Rate Filing: Negotiated Rate Service Agreement—Spotlight to be effective 12/1/2015.

Filed Date: 11/30/15.

Accession Number: 20151130-5347.

Comments Due: 5 p.m. ET 12/14/15.

Docket Numbers: RP16-257-000.

Applicants: Iroquois Gas Transmission System, L.P.

Description: § 4(d) Rate Filing: 11/30/15. Negotiated Rates—MMGS, Inc. (RTS) 7625-02 & -03 Amd 1 to be effective 12/1/2015.

Filed Date: 11/30/15.

Accession Number: 20151130-5348.

Comments Due: 5 p.m. ET 12/14/15.

Any person desiring to intervene or protest in any of the above proceedings must file in accordance with Rules 211 and 214 of the Commission's Regulations (18 CFR 385.211 and § 385.214) on or before 5:00 p.m. Eastern time on the specified date(s). Protests may be considered, but intervention is necessary to become a party to the proceeding.

Filings in Existing Proceedings

Docket Numbers: RP15-55-002.

Applicants: Columbia Gulf Transmission, LLC.

Description: Compliance filing Negotiated & Non-Conforming Service Agmt—West Side Compliance Filing to be effective 11/1/2014.

Filed Date: 12/1/15.

Accession Number: 20151201-5002.

Comments Due: 5 p.m. ET 12/14/15.

Docket Numbers: RP15-1277-001.

Applicants: Algonquin Gas Transmission, LLC.

Description: Compliance filing Pro Forma OBA—RP15-1277 Compliance Filing to be effective 11/1/2015.

Filed Date: 11/25/15.

Accession Number: 20151125-5161.

Comments Due: 5 p.m. ET 12/7/15.

Docket Numbers: RP15-1278-001.

Applicants: Maritimes & Northeast Pipeline, L.L.C.

Description: Compliance filing Pro Forma OBA—RP15-1278 Compliance Filing to be effective 11/1/2015.

Filed Date: 11/25/15.

Accession Number: 20151125-5169.

Comments Due: 5 p.m. ET 12/7/15.

Docket Numbers: RP15-1279-001.

Applicants: Texas Eastern Transmission, LP.

Description: Compliance filing Pro Forma OBA—RP15-1279 Compliance Filing to be effective 11/1/2015.

Filed Date: 11/25/15.

Accession Number: 20151125-5171.

Comments Due: 5 p.m. ET 12/7/15.

Docket Numbers: RP15-1322-001.

Applicants: Sabine Pipe Line LLC.

Description: Compliance filing Sabine Pipe Line November 30 Compliance to be effective 12/31/9998.

Filed Date: 11/30/15.

Accession Number: 20151130-5271.

Comments Due: 5 p.m. ET 12/14/15.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated December 1, 2015.
Nathaniel J. Davis, Sr.,
Deputy Secretary.

[FR Doc. 2015-30747 Filed 12-4-15; 8:45 am]

BILLING CODE 6717-01-P